DEPARTMENT OF HEALTH AND HUMAN SERVICES

National Institutes of Health

National Institute of Mental Health Draft Strategic Plan

AGENCY: National Institute of Mental Health, NIH, HHS.

ACTION: Notice.

SUMMARY: The National Institute of Mental Health (NIMH) is developing a strategic plan for the next 3-5 years, and invites the public to provide comments on a draft of this plan. The draft plan will be publicly available through the NIMH Draft Strategic Plan Web page (http://www.nimh.nih.gov/about/strategic-planning-reports/nimh-draft-strategic-plan.shtml) from November 20, 2007 through December 21, 2007. The public is invited to provide comments via the e-mail address or the postal address listed on the NIMH Draft Strategic Plan Web page.

Background: NIMH is the lead Federal agency for research on mental and behavioral disorders and has as its mission to reduce the burden of these disorders through research on mind, brain, and behavior. The Institute's goal is to generate research that will transform the prevention of and recovery from mental disorders. To inspire and support research that will make a difference for those living with mental illness, the Institute is developing a Strategic Plan to help direct this complex research effort and bring into sharper focus the methods, questions, and perspectives that will transform the diagnosis, treatment, and prevention of mental disorders, ultimately paving the way toward cures.

NIMH's draft Strategic Plan outlines several Strategic Objectives that will guide the research agenda for the Institute over the next several years. The public is invited to review this draft plan and provide comments between November 20, 2007 and December 21, 2007. The draft plan may be viewed at http://www.nimh.nih.gov/about/strategic-planning-reports/nimh-draft-strategic-plan.shtml, and hard copies are available by calling 1-866-615-6464 (toll free) or by sending a letter requesting a copy (that includes your mailing address) to: National Institute of Mental Health, Attn: Draft Strategic Plan, 8280 Greensboro Drive, Suite 300, McLean, Virginia 22102.

Request for Comments: The public is invited to provide comments on the draft Strategic Plan. Comments may be sent to the email address listed on the NIMH Strategic Planning Web page at http://www.nimh.nih.gov/about/strategic-planning-reports/nimh-draft-strategic-plan.shtml, or sent to the postal address listed above.

FOR FURTHER INFORMATION CONTACT: Additional information is posted on the NIMH Strategic Planning Web page, located at http://www.nimh.nih.gov/about/strategic-planning-reports/nimh-draft-strategic-plan.shtml.

Comments Due Date: Comments regarding the draft of NIMH's strategic plan should be submitted via e-mail no later than December 21, 2007. Comments mailed to the above postal address must be postmarked by the same date.

Dated: November 26, 2007.
Thomas Insel,
Director, National Institute of Mental Health, National Institutes of Health.

[FR Doc. E7-23420 Filed 12-3-07; 8:45 am]

BILLING CODE 4149-01-P